ENVIRONMENTAL PROTECTION AGENCY

[WH-FRL-6989-9]

National Drinking Water Advisory Council Research Working Group Notice of Public Meeting

AGENCY: U.S. Environmental Protection Agency.

ACTION: Notice.

SUMMARY: Under Section 10(a)(2) of Public Law 92-423, “The Federal Advisory Committee Act,” notice is hereby given that a meeting of the Drinking Water Research Working Group of the National Drinking Water Advisory Council established under the Safe Drinking Water Act, as amended (42 U.S.C. S300F et seq.), will be held on June 21-22, 2001. On June 21 the meeting will be held from 1:30-6:00 pm ET (with a possible evening session), and on June 22 from 9:00-3:00 pm, at Resolve, 1255 23rd Street, NW., Suite 275, Washington, DC 20037. The meeting will be open to public to observe and statements will be taken from the public as time allows. Seating is limited.

This is the second meeting of the Drinking Water Research Working Group. The Environmental Protection Agency (EPA) anticipates 2 meetings of this working group over the course of the next year. The purpose of this working group will be to provide advice to NDWAC as it develops recommendations for EPA on a Comprehensive Drinking Water Research Strategy (as required under the Safe Drinking Water Act) that will consider a broad range of research needs to support the Agency's drinking water regulatory activities. The research strategy will include an assessment of research needs for microbes and disinfection by-products (M/DBPs), arsenic, contaminants on the Contaminants Candidate List (CCL), and other critical cross-cutting issues, such as sensitive subpopulations, distribution systems, contaminants mixtures, future scenarios and source water assessment. This meeting will focus on reviewing the new outline for the Comprehensive Drinking Water Research Strategy, and discussing selected contaminants and cross-cutting/emerging issues.

For more information, please contact Maggie Javdan, U.S. EPA (4607), Office of Ground Water and Drinking Water, 1200 Pennsylvania Avenue, NW., Washington, DC 20460. The telephone is 202-260-9862, fax 202-401-6135, and e-mail (javdan.maggie@epa.gov).

Dated: May 23, 2001.
Janet Pawlukiewicz,
Designated Federal Officer, National Drinking Water Advisory Council.

[FR Doc. 01-13945 Filed 6-1-01; 8:45 am]

BILLING CODE 6560-50-U